DEPARTMENT OF ENERGY

Federal Energy Regulatory Commission

Combined Notice of Filings #1

Take notice that the Commission received the following electric rate filings:

Docket Numbers: ER10-2564-016; ER10-2289-016; ER10-2600-016.

Applicants: UNS Electric, Inc., UniSource Energy Development Company, Tucson Electric Power Company.

Description: Notice of Non-Material Change in Status of Tucson Electric Power Company, et al.

Filed Date: 1/30/26.

Accession Number: 20260130-5604.

Comment Date: 5 p.m. ET 2/20/26.

Docket Numbers: ER10-2906-024; ER19-1716-012; ER24-2581-002; ER24-2611-002; ER25-2182-002; ER25-2184-002; ER26-496-002; ER26-576-002.

Applicants: Energy Prepay XI, LLC, Energy Prepay X, LLC, Energy Prepay IX, LLC, Energy Prepay VIII, LLC, Energy Prepay IV, LLC, Energy Prepay III, LLC, Morgan Stanley Energy Structuring, L.L.C., Morgan Stanley Capital Group Inc.

Description: Notice of Non-Material Change in Status of Morgan Stanley Capital Group Inc., et al.

Filed Date: 1/30/26.

Accession Number: 20260130-5603.

Comment Date: 5 p.m. ET 2/20/26.

Docket Numbers: ER10-3028-007.

Applicants: Elk Hills Power, LLC.

Description: Notice of Non-Material Change in Status of Elk Hills Power, LLC.

Filed Date: 1/30/26.

Accession Number: 20260130-5602.

Comment Date: 5 p.m. ET 2/20/26.

Docket Numbers: ER12-1316-011; ER11-2753-012.

Applicants: Cedar Point Wind, LLC, Silver State Solar Power North, LLC.

Description: Notice of Non-Material Change in Status of Silver State Solar Power North, LLC, et al.

Filed Date: 1/30/26.

Accession Number: 20260130-5600.

Comment Date: 5 p.m. ET 2/20/26.

Docket Numbers: ER25-704-006; ER25-1338-006; ER26-684-002; ER25-1339-005; ER26-687-002; ER25-1348-008.

Applicants: New Madrid Solar, LLC, Forgeview Interconnection, LLC, Forgeview Solar, LLC, Flat Fork Interconnection, LLC, Flat Fork Solar, LLC, Amite Solar, LLC.

Description: Notice of Change in Status of Amite Solar, LLC , et al.

Filed Date: 1/30/26.

Accession Number: 20260130-5606.

Comment Date: 5 p.m. ET 2/20/26.

Docket Numbers: ER25-2563-001; ER25-2565-001; ER25-2562-002.

Applicants: Sycamore Creek Solar, LLC, Jackson County Solar, LLC, Apple River Solar, LLC.

Description: Notice of Non-Material Change in Status of Apple River Solar, LLC, et al.

Filed Date: 1/30/26.

Accession Number: 20260130-5605.

Comment Date: 5 p.m. ET 2/20/26.

Docket Numbers: ER26-570-001.

Applicants: New York Independent System Operator, Inc.

Description: Tariff Amendment: New York Independent System Operator, Inc. submits tariff filing per 35.17(b): NYISO Deficiency Response re: CHPE MTF to be effective 3/16/2026.

Filed Date: 2/23/26.

Accession Number: 20260212-5154.

Comment Date: 5 p.m. ET 3/5/26.

Docket Numbers: ER26-792-001.

Applicants: MATL LLP.

Description: Tariff Amendment: Amendment to TLIA COC Filing to be effective 3/1/2013.

Filed Date: 2/13/26.

Accession Number: 20260213-5066.

Comment Date: 5 p.m. ET 3/6/26.

Docket Numbers: ER26-1366-000.

Applicants: MATL LLP.

Description: Notice of Cancellation of Transmission Line Interconnection Agreement of MATL LLP.

Filed Date: 2/10/26.

Accession Number: 20260210-5190.

Comment Date: 5 p.m. ET 3/3/26.

Docket Numbers: ER26-1367-000.

Applicants: PJM Interconnection, L.L.C.

Description: 205(d) Rate Filing: Original NSA, Service Agreement No. 7921; AE1-113/AE2-255 to be effective 4/19/2026.

Filed Date: 2/13/26.

Accession Number: 20260213-5001.

Comment Date: 5 p.m. ET 3/6/26.

Docket Numbers: ER26-1368-000.

Applicants: PJM Interconnection, L.L.C.

Description: 205(d) Rate Filing: Amendment to ISA No. 5979; Queue No. AD2-085/AE2-247/AF1-017 to be effective 4/15/2026.

Filed Date: 2/13/26.

Accession Number: 20260213-5006.

Comment Date: 5 p.m. ET 3/6/26.

Docket Numbers: ER26-1369-000.

Applicants: Midcontinent Independent System Operator, Inc., Otter Tail Power Company.

Description: 205(d) Rate Filing: Otter Tail Power Company submits tariff filing per 35.13(a)(2)(iii: 2026-02-13_SA 4678 OTP-WMMPA E&P (J3400) to be effective 2/3/2026.

Filed Date: 2/13/26.

Accession Number: 20260213-5041.

Comment Date: 5 p.m. ET 3/6/26.

Docket Numbers: ER26-1370-000.

Applicants: PJM Interconnection, L.L.C.

Description: 205(d) Rate Filing: Original NUCRA, Network Upgrade No. n9200.0, Service Agreement No. 7855 to be effective 12/31/9998.

Filed Date: 2/13/26.

Accession Number: 20260213-5052.

Comment Date: 5 p.m. ET 3/6/26.

Docket Numbers: ER26-1371-000.

Applicants: PJM Interconnection, L.L.C.

Description: 205(d) Rate Filing: Original GIA, Service Agreement No. 7840; Project Identifier No. AE2-291 to be effective 1/14/2026.

Filed Date: 2/13/26.

Accession Number: 20260213-5055.

Comment Date: 5 p.m. ET 3/6/26.

Docket Numbers: ER26-1372-000.

Applicants: Southwest Power Pool, Inc.

Description: 205(d) Rate Filing: Southwest Power Pool, Inc. submits tariff filing per 35.13(a)(2)(iii: 1276R40 Evergy Metro NITSA NOA to be effective 12/1/2025.

Filed Date: 2/13/26.

Accession Number: 20260213-5065.

Comment Date: 5 p.m. ET 3/6/26.

Docket Numbers: ER26-1373-000.

Applicants: Alabama Power Company, Georgia Power Company, Mississippi Power Company.

Description: Tariff Amendment: Alabama Power Company submits tariff filing per 35.15: Origis Development (Thalmann 2 Solar & Battery) LGIA Termination Filing to be effective 2/13/2026.

Filed Date: 2/13/26.

Accession Number: 20260213-5068.

Comment Date: 5 p.m. ET 3/6/26.

Docket Numbers: ER26-1374-000.

Applicants: PJM Interconnection, L.L.C.

Description: 205(d) Rate Filing: Original GIA, Service Agreement No. 7838; AG1-548 to be effective 1/15/2026.

Filed Date: 2/13/26.

Accession Number: 20260213-5072.

Comment Date: 5 p.m. ET 3/6/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: February 13, 2026.
Carlos D. Clay,
Deputy Secretary.

[FR Doc. 2026-03318 Filed 2-19-26; 8:45 am]

BILLING CODE 6717-01-P